Title 3—

The President

Proclamation 7465 of September 17, 2001

National Farm and Ranch Safety and Health Week, 2001

By the President of the United States of America

A Proclamation

Our Nation's agriculture industry represents 13 percent of our economy and remains central to our prosperity at home and our competitiveness abroad. At the core of this industry are countless dedicated farmers and ranchers working to produce food stuffs at a level of efficiency and quality unrivaled around the globe. In many ways, agriculture ranks among the most crucial of our Nation's industries; and yet, its reliability and productivity are often taken for granted.

Our farmers and ranchers face significant challenges and uncertainty, from inclement weather to damaging insects. They also face health and safety dangers, from exposure to chemicals and the operation of machinery to tending livestock. In 1999, the agriculture industry suffered more than 770 deaths and 150,000 disabling injuries. Of these victims, many were children and young people injured or killed in preventable farm and ranch accidents.

Progress is being made in developing technology that makes farm and ranch work safer. Safety equipment features for tractors, such as roll-over protective structures, bypass starter covers, and hazard warning lights, aid in the prevention of injuries and save lives. Sunscreens, hearing protection devices, and other personal protective equipment reduce the serious health problems caused by toxic gases, chemicals, and harsh environmental conditions. We must increase awareness of the availability of safety and health protection measures. I encourage farmers and ranchers to develop safety and health plans that meet the needs of their businesses, families, and employees. Safety equipment should be installed, maintained regularly, and used consistently. Children also must be taught to recognize risks on the farm and ranch and to help with chores safely.

Despite many hazards and uncertainties, America's farmers and ranchers remain among the most dedicated and productive contributors to our Nation's economy. I am committed to supporting the American farmer and rancher, and my Administration will help those facing financial difficulties caused by storms, droughts, or any other unforseen natural catastrophe. In times of emergency, farmers and ranchers will get the assistance they need, when they need it. I recently signed a $5.5 billion agriculture supplemental bill that affirms my commitment to maintaining a strong and healthy agricultural economy.

My Administration also will support tax-deferred savings accounts to help farming and ranching families guard against downturns. To keep farms and ranches in a family from generation to generation, we are eliminating the death tax. Finally, farmers and ranchers need foreign markets to sell their products, and I will work hard to ensure that agriculture is a top priority in future trade negotiations.

Our Nation owes a debt of gratitude to our farmers and ranchers for helping to ensure stability in our economy, for providing food products that amply meet all our citizens' needs, and for representing what is best about America. They show the character and values that have made this country strong, values of love and family, faith in God, and respect for nature. We honor them by encouraging safe farming and ranching practices that improve and protect the lives of all farmers and ranchers.

NOW, THEREFORE I, GEORGE W. BUSH, President of the United States of America, by virtue of the authority vested in me by the Constitution and laws of the United States, do hereby proclaim the week of September 16 through September 22, 2001, as National Farm and Ranch Safety and Health Week. I call upon agriculture-related agencies, organizations, and businesses to strengthen their commitment to provide quality safety and health training to farmers, ranchers, and their families. I also call upon citizens to recognize the sacrifice and dedication of those individuals and communities whose work in agriculture provides the quality food that we enjoy.

IN WITNESS WHEREOF, I have hereunto set my hand this seventeenth day of September, in the year of our Lord two thousand one, and of the Independence of the United States of America the two hundred and twenty-sixth.

B

[FR Doc. 01-23620

Filed 09-18-01; 12:17 pm]

Billing code 3195-01-P